DEPARTMENT OF COMMERCE

National Oceanic and Atmospheric Administration

[I.D. 042704B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Applications and Reporting Requirements for Incidental Taking of Marine Mammals by Specified Activities Under the Marine Mammal Protection Act.

Form Number(s): None.

OMB Approval Number: 0648-0151.

Type of Request: Regular submission.

Burden Hours: 12,376.

Number of Respondents: 56.

Average Hours Per Response: 229.

Needs and Uses: The taking by harassment, injury, or mortality of marine mammals is prohibited by the Marine Mammal Protection Act (MMPA) unless exempted or authorized by permit. The incidental take program authorizes the taking of marine mammals incidental to maritime activities (military, industry, scientific research). It is the responsibility of the activity to determine if it might have a “taking” and, if it does, to apply for an authorization. Applications are necessary in order for NOAA Fisheries to know that an authorization is needed and to determine that the harassment, injury, or mortality can be authorized under the MMPA. The reporting requirements are mandated by the MMPA and are necessary to ensure that the determinations made by NOAA Fisheries in regard to the impact on marine mammals are valid. The public and other Federal, state and local agencies also review and comment on applications and reports.

Affected Public: Business or other for-profit organizations; not-for-profit institutions; Federal Government; State, Local or Tribal Government.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via e-mail at dHynek@doc.gov).

Written comments and recommendations for the proposed information collection should be sent within 30 days of publication of this notice to David Rostker, OMB Desk Officer, fax 202-395-7285, or e-mail David_Rostker@omb.eop.gov.

Dated: April 23, 2004.
Gwellnar Banks,
Management Analyst, Office of the Chief Information Officer.

[FR Doc. 04-10005 Filed 4-30-04; 8:45 am]

BILLING CODE 3510-22-S